NATIONAL AERONAUTICS AND SPACE ADMINISTRATION

14 CFR Part 1259

RIN 2700-AE00

[Document Number NASA-17-055]

National Space Grant College and Fellowship Program

AGENCY: National Aeronautics and Space Administration.

ACTION: Direct final rule.

SUMMARY: This direct final rule makes nonsubstantive changes to Agency regulations to correct citations and office titles.

DATES: This direct final rule is effective September 29, 2017. Comments due on or before August 30, 2017. If adverse comments are received, NASA will publish a timely withdrawal of the rule in the Federal Register.

ADDRESSES: Comments must be identified with RIN 2700-AE00 and may be sent to NASA via the Federal E-Rulemaking Portal: http://www.regulations.gov. Follow the online instructions for submitting comments. Please note that NASA will post all comments on the Internet with changes, including any personal information provided.

FOR FURTHER INFORMATION CONTACT: Lenell Allen, Office of Education, NASA Headquarters, telephone (202) 358-1762.

SUPPLEMENTARY INFORMATION:

Direct Final Rule

NASA has determined this rulemaking meets the criteria for a direct final rule because it makes nonsubstantive changes to correct citations and office titles. No opposition to the changes and no significant adverse comments are expected. However, if the Agency receives a significant adverse comment, it will withdraw this direct final rule by publishing a notice in the Federal Register. A significant adverse comment is one that explains: (1) Why the direct final rule is inappropriate, including challenges to the rule's underlying premise or approach; or (2) why the direct final rule will be ineffective or unacceptable without a change. In determining whether a comment necessitates withdrawal of this direct final rule, NASA will consider whether it warrants a substantive response in a notice and comment process.

Statutory Authority

The National Aeronautics and Space Act (the Space Act), 51 U.S.C. 20113(a), authorizes the Administrator of NASA to make, promulgate, issue, rescind, and amend rules and regulations governing the manner of its operations and the exercise of the powers vested in it by law.

Regulatory Analysis

Executive Order 12866, Regulatory Planning and Review and Executive Order 13563, Improvement Regulation and Regulation Review

Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This final rule has been designated as “not significant.”

Executive Order 13132, Federalism

E.O. 13132, “Federalism,” 64 FR 43255 (August 4, 1999) requires regulations be reviewed for Federalism effects on the institutional interest of states and local governments, and if the effects are sufficiently substantial, preparation of the Federal assessment is required to assist senior policy makers. The amendments will not have any substantial direct effects on state and local governments within the meaning of the E.O. Therefore, no Federalism assessment is required.

Paperwork Reduction Act Statement

This final rule does not contain an information collection requirement that is subject to the Paperwork Reduction Act of 1995 (44 U.S.C. 3501 et seq.).

Regulatory Flexibility Act

The Regulatory Flexibility Act (5 U.S.C. 601 et seq.) requires an agency to prepare an initial regulatory flexibility analysis to be published at the time the proposed rule is published. This requirement does not apply if the agency “certifies that the rule will not, if promulgated, have a significant economic impact on a substantial number of small entities” (5 U.S.C. 603). This rule makes corrections to citations and titles of NASA officials; therefore, it does not have a significant economic impact on a substantial number of small entities.

List of Subjects in 14 CFR Part 1259

Colleges and universities.

Accordingly, under the authority of the National Aeronautics and Space Act, as amended, NASA amends part 1259 as follows:

PART 1259—NATIONAL SPACE GRANT COLLEGE AND FELLOWSHIP PROGRAM

1. The authority citation for part 1259 is revised to read as follows:

Authority: Pub. L. 100-147, 101 Stat. 869-875; Sec. 3, Pub. L. 111-314, 124 Stat. 3382; 51 U.S.C. 40301-40311.

Subpart 1259.1—Basic Policy

2. In § 1259.100, paragraph (a) is revised to read as follows:

§ 1259.100 Scope of part.

(a) This part 1259 establishes the policies, responsibilities, and procedures relative to the National Space Grant College and Fellowship Program established by Title II of the National Aeronautics and Space Administration (NASA) Authorization Act of 1988 (Pub. L. 100-147, 101 Stat. 869-875, now codified at 51 U.S.C. 40301-40311 as a result of Sec. 3, Pub. L. 111-314, 124 Stat. 3382). This statute authorizes the Administrator of NASA, in order to carry out the purposes of the National Space Grant College and Fellowship Act (the Act), to accept conditional or unconditional gifts and donations; to accept and use funds from other Federal departments, agencies, and instrumentalities; to make awards with respect to such needs or problems; and to designate Space Grant colleges. It further directs the Administrator to establish a graduate fellowship program to provide educational assistance to qualified individuals in fields related to space and to establish an independent committee known as the Space Grant Review Panel to review and advise the Administrator with respect to Space Grant programs.

* * * * *

3. Amend § 1259.101 by revising paragraphs (b) introductory text, (f), (g), (h), and (n) to read as follows:

§ 1259.101 Definitions.

* * * * *

(b) Institution of higher education means any college or university in any state that:

* * * * *

(f) Space means aeronautical and space activities which has the meaning given to such term in section 103(1) of the National Aeronautics and Space Act of 1958, as amended (51 U.S.C. 20103).

(g) Space Grant college means any public or private institution of higher education that is designated as such by the Administrator or designee pursuant to section 208 of the Act.

(h) Space Grant regional consortium means any association or other alliance that is designated as such by the Administrator or designee pursuant to section 208 of the Act.

* * * * *

(n) State Space Grant cooperating institution means any institution of higher education in a state that does not have a designated Space Grant college, and that is named by the Administrator or designee to provide selected Space Grant program functions within that state.

4. Revise § 1259.102 to read as follows:

§ 1259.102 General policy.

(a) In compliance with the National Space Grant College and Fellowship Act (51 U.S.C. 40301-40311), it shall be NASA's purpose to:

(1) Increase the understanding, assessment, development, and utilization of space resources by promoting a strong educational base, responsive research and training activities, and broad and prompt dissemination of knowledge and techniques;

(2) Utilize the abilities and talents of the universities of the Nation to support and contribute to the exploration and development of the resources and opportunities afforded by the space environment;

(3) Encourage and support the existence of interdisciplinary and multidisciplinary programs of space research to engage in activities of training (including teacher education), research, and public service and to have cooperative programs with industry;

(4) Encourage and support the existence of consortia, composed of university and industry members, to advance the exploration and development of space resources in cases in which national objectives can be better fulfilled than through the programs of single universities;

(5) Encourage and support Federal funding for graduate fellowships in fields related to space;

(6) Support activities in colleges and universities generally for the purpose of creating and operating a network of institutional programs that will enhance achievements resulting from efforts under this Act; and

(7) Encourage cooperation and coordination among Federal agencies and Federal programs concerned with space issues.

(b) It shall be NASA's policy to designate Space Grant colleges, State Space Grant cooperating institutions, and Space Grant regional consortia and award fellowships, grants, contracts, and other transactions competitively in a merit-based review process.

(c) It shall be NASA's policy to designate and make awards without regard to age, color, disability, national origin, race, religion, or sex.

5. Amend § 1259.103 by revising the section heading and paragraphs (a)(1) and (b)(1) to read as follows:

§ 1259.103 Space authorities—regular and special.

(a) * * *

(1) In order to carry out the provisions of the Act, the Administrator is authorized to accept conditional or unconditional gifts or donations of services, money, or property; real, personal, or mixed; tangible or intangible. This authority is delegated to the Director, NASA Space Grant Program.

* * * * *

(b) * * *

(1) To carry out the provisions of the Act, the Administrator is authorized to accept and use funds from other Federal departments, agencies, and instrumentalities to pay for awards under this program. This authority is delegated to the Director, NASA Space Grant Program.

* * * * *

Subpart 2—Space Grant Program and Project Awards

6. Amend § 1259.201 by revising paragraphs (a)(1), (a)(2), (b) introductory text, and (b)(2) to read as follows:

§ 1259.201 Types of Space Grant program and project awards—regular and special.

(a) * * *

(1) Be funded by NASA in an amount not to exceed 66 percent of the total cost of the Space Grant award and/or fellowship program involved; or

(2) Be funded in an amount not to exceed 100 percent of its cost if the project award is funded by another Federal entity.

(b) A special Space Grant program or project award may be funded in an amount not to exceed 100 percent of the total cost of the special project if the Administrator or designee, the Director, NASA Space Grant Program, determines that:

* * * * *

(2) The probable benefit of such program or project outweighs the public interest in such matching requirement; and

* * * * *

7. Amend § 1259.202 by revising paragraphs (a) and (c) to read as follows:

§ 1259.202 Application procedures.

(a) The opportunity to apply shall be announced by the Director, NASA Space Grant Program.

* * * * *

(c) The applications will be reviewed by a peer review merit selection panel appointed by the Director, NASA Space Grant Program.

8. Amend § 1259.203 by revising the introductory text and paragraph (b) to read as follows:

§ 1259.203 Limitations.

The Act at Public Law 100-147, Section 206(d)(2) and (3), states that:

* * * * *

(b) However, funds may be used to lease any of the items listed in paragraph (a) of this section provided prior written approval is obtained from the Administrator or designee.

Subpart 3—National Needs Grants

9. Revise § 1259.300 to read as follows:

§ 1259.300 Description.

National needs awards may be awarded by the Administrator or designee, Director, NASA Space Grant Program, to meet such needs or problems relating to aerospace identified by the Space Grant Review Panel, by NASA officials, or by any person. NASA may fund such awards in an amount not to exceed 100 percent of the total cost of the program or project.

10. Amend § 1259.302 by revising paragraph (b) to read as follows:

§ 1259.302 Application procedures.

* * * * *

(b) The Director, NASA Space Grant Program shall establish a competitive, merit-based review process to examine unsolicited national needs proposals.

Subpart 4—Space Grant College and Consortium Designation

11. Amend § 1259.400 by revising paragraphs (a) and (b) to read as follows:

§ 1259.400 Description.

(a) The Administrator may designate Space Grant colleges, Space Grant college consortia, and Space Grant regional consortia in order to establish Federal/university partnerships to promote a strong educational base in the space and aeronautical sciences. These designated colleges and consortia will provide leadership for a network of American colleges and universities, industry, and state and local governments in space-related fields. The Administrator hereby delegates this authority to the Director, NASA Space Grant Program.

(b) Designation of Space Grant colleges, Space Grant college consortia, and Space Grant regional consortia shall be for five years. Designation of Space Grant colleges and consortia may be continued for more than five years based on the results of a merit review at the beginning of the fifth year. A claim arising in the United States should be submitted to the Chief Counsel of the NASA installation whose activities are believed to have given rise to the claimed injury, loss, or death. If the identity of such installation is not known, or if the claim arose in a foreign country, the claim should be submitted to the General Counsel, Headquarters, National Aeronautics and Space Administration, Washington, DC 20546.

* * * * *

12. Amend § 1259.401 by revising paragraphs (d) and (e) to read as follows:

§ 1259.401 Responsibilities.

* * * * *

(d) Develop and implement programs of public service, interdisciplinary space-related programs, advisory activities, and cooperation with industry, research laboratories, state and local governments, and other colleges and universities, particularly institutions in their state and/or region with significantly large enrollments of minority students who are under-represented in science and technology; and

(e) Provide non-Federal matching funds (exclusive of in-kind contributions) for the Space Grant program equal to those provided by NASA.

13. Amend § 1259.402 by revising paragraphs (a), (b) introductory text, and (c) to read as follows:

§ 1259.402 Basic criteria and application procedures.

(a) Any institution of higher education may be designated a Space Grant college if the Administrator or designee, Director, NASA Space Grant Program, determines that it has a balanced program of research, education, training, and advisory services in fields related to space, as further defined in the program announcement.

(b) Any association or other alliance of two or more persons may be designated a Space Grant regional consortium, if the Administrator or designee, Director, National Space Grant Program, determines that such association or alliance:

* * * * *

(c) The opportunity to apply for designation shall be announced by the Director, NASA Space Grant Program. The application procedures and evaluation guidelines for designation shall be included in the designation announcement.

* * * * *

14. Revise § 1259.403 to read as follows:

§ 1259.403 Limitations.

The same limitations shall apply as stated in § 1259.203.

15. Revise § 1259.404 to read as follows:

§ 1259.404 Suspension or termination of designation.

The Administrator or designee, Director, NASA Space Grant Program, may, for cause, after an opportunity for a hearing before a Federal administrative judge appointed by the Deputy Administrator, suspend or terminate the Space Grant designation of any institution or consortium.

Subpart 5—Space Grant Fellowships

16. Revise § 1259.500 to read as follows:

§ 1259.500 Description.

The Space Grant fellowship program will provide educational and training assistance to qualified individuals at the graduate level in fields related to space. Awards will be made to institutions of higher education for fellowships. The student recipients shall be referred to as NASA Space Grant Fellows.

17. Revise § 1259.501 to read as follows:

§ 1259.501 Responsibilities.

(a) All institutions that receive Space Grant fellowships shall use the awards to increase the pool of graduate students in fields related to space.

(b) The overall fellowship program shall be cognizant of the importance of achieving institutional and geographical diversity.

18. Amend § 1259.502 by revising paragraphs (a) and (c) to read as follows:

§ 1259.502 Application procedures.

(a) All applicants for designation as Space Grant colleges and consortia shall apply for Space Grant fellowships.

* * * * *

(c) There shall be a merit review selection for Space Grant fellowship awards.

19. Amend § 1259.503 by revising paragraph (b) to read as follows:

§ 1259.503 Limitations.

* * * * *

(b) Any students supported under this fellowship program shall not be funded for more than four years unless the Director, NASA Space Grant Program, makes an exception in writing.

Subpart 6—Space Grant Review Panel

20. Revise § 1259.600 to read as follows:

§ 1259.600 Panel description.

An independent committee, the Space Grant Review Panel (Panel), which is not subject to the Federal Advisory Committee Act, shall be established to advise the Administrator with respect to Space Grant program and project awards, the Space Grant fellowship program, and the designation and operation of Space Grant colleges and consortia. A majority of the voting members shall be individuals who, by reason of their knowledge, experience, or training, are especially qualified in one or more of the fields related to space. The other voting members shall be individuals who, by reason of their knowledge, experience, or training, are especially qualified in, or representative of, education, extension services, state government, industry, economics, planning, or any other activity related to the purposes of the Space Grant program.

21. Amend § 1259.601 by revising paragraphs (a), (b), (c), (f), and (g) to read as follows:

§ 1259.601 Establishment and composition.

(a) The Panel, to be located at NASA Headquarters in Washington, DC, will be composed of ten (10) voting members who are not current NASA employees.

(b) The Panel shall include four representatives from Federal departments, agencies, or entities that have an interest in space programs or science and education, as well as six representatives from non-Federal entities.

(c) The non-Federal representatives shall include two persons who are directly involved with the Space Grant program at a Space Grant college or consortium, one person who is involved with the Space Grant program at a university that is not a designated Space Grant college, a university president or chancellor, one representative from a space-related industry, and the last person to be from whatever field the Administrator determines to be of greatest concern.

* * * * *

(f) The Administrator or designee, Director, NASA Space Grant Program, shall select a Chair and a Vice Chair for the Panel. The Vice Chair shall act as Chair in the absence or incapacity of the Chair.

(g) The Administrator or designee, Director, NASA Space Grant Program, may select NASA officials to serve as ex officio, non-voting members of the Panel.

22. Revise § 1259.602 to read as follows:

§ 1259.602 Conflict of interest.

Any member of the Panel who has a personal or financial interest in an issue for consideration before the Panel shall abstain from all discussion and voting on such issue.

23. Amend § 1259.603 by revising paragraphs (a) introductory text, (c), and (d) to read as follows:

§ 1259.603 Responsibilities.

(a) The Panel shall advise the Administrator and designee, Director, NASA Space Grant Program, with respect to:

* * * * *

(c) The Panel may exercise such powers as reasonably necessary in order to carry out the duties enumerated in paragraph (a) of this section.

(d) The Director, NASA Space Grant Program, shall appoint an Executive Secretary who shall perform administrative duties for the Panel.

* * * * *

Nanette J. Smith,
NASA Federal Register Liaison Officer.

[FR Doc. 2017-15984 Filed 7-28-17; 8:45 am]

BILLING CODE P